DEPARTMENT OF ENERGY

Notice of Availability of Interim Guidance on Packaging, Transportation, Receipt, Management, Short-Term and Long-Term Storage of Elemental Mercury, Extension of Public Comment Period

AGENCY: Office of Environmental Management, Department of Energy.

ACTION: Notice of availability; request for comments: extension of public comment period.

SUMMARY: On May 2, 2023, a Federal Register Notice was issued that announced the Notice of Availability (NOA) of the U.S. Department of Energy (DOE) Interim Guidance on Packaging, Transportation, Receipt, Management, Short-Term and Long-Term Storage of Elemental Mercury (Interim Guidance). The NOA contained errors that limited the public's ability to review and comment on the Interim Guidance. A correction was issued in the Federal Register on May 9, 2023. Following a request to extend the comment period, DOE is extending the public comment period for the Interim Guidance from June 1, 2023, to July 3, 2023.

DATES: The comment period for the NOA published on May 2, 2023 (88 FR 27495), and corrected on May 9, 2023 (88 FR 29896), is extended to July 3, 2023. DOE will consider all comments submitted or postmarked by July 3, 2023. Comments submitted to DOE concerning the Interim Guidance prior to this announcement do not need to be resubmitted as a result of this extension of the comment period.

ADDRESSES: Additional information regarding the Interim Guidance and other related documents are available online at: https://www.energy.gov/em/long-term-management-and-storage-elemental-mercury.

• Email: david.haught@hq.doe.gov. Please submit comments as an email message or email attachment (i.e., Microsoft Word or PDF file format) without encryption.

• Postal Mail: Please submit comments by U.S. Mail to David Haught, Office of Environmental Management, U.S. Department of Energy, EM-4.22, 1000 Independence Avenue SW, Washington, DC 20585.

FOR FURTHER INFORMATION CONTACT: Questions concerning the Interim Guidance can be sent to David Haught, Office of Environmental Management, U.S. Department of Energy, EM-4.22, 1000 Independence Avenue SW, Washington, DC 20585, (301) 903-1765, or to david.haught@hq.doe.gov.

Signing Authority

This document of the Department of Energy was signed on May 23, 2023, by Kristen G. Ellis, Acting Associate Principal Deputy Assistant Secretary for Regulatory and Policy Affairs, Office of Environmental Management. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 24, 2023.
Treena V. Garrett,
Federal Register Liaison Officer, U.S. Department of Energy.

[FR Doc. 2023-11380 Filed 5-26-23; 8:45 am]

BILLING CODE 6450-01-P